DEPARTMENT OF HEALTH AND HUMAN SERVICES

Centers for Disease Control and Prevention

Mine Safety and Health Research Advisory Committee

In accordance with section 10(a)(2) of the Federal Advisory Committee Act (Pub. L. 92-463), the Centers for Disease Control and Prevention (CDC) announces the following meeting of the aforementioned committee.

Times and Dates:

8:45 a.m.-5:15 p.m., May 2, 2007.

8:30 a.m.-12:15 p.m., May 3, 2007.

Place: Pittsburgh Airport Marriott, 777 Aten Road, Coraopolis, PA, 15108, telephone (412) 788-8800, fax (412) 788-6299.

Status: Open to the public, limited only by the space available. The meeting room accommodates approximately 50 people.

Purpose: This committee is charged with providing advice to the Secretary, Department of Health and Human Services; the Director, CDC; and the Director, National Institute for Occupational Safety and Health (NIOSH), on priorities in mine safety and health research, including grants and contracts for such research, 30 U.S.C. 812(b)(2), Section 102(b)(2).

Matters to be Discussed: The meeting will focus on Communications and Tracking, update on Refuge Chamber Activities, Mine Seals Research, other Research Projects Related to Disaster Prevention and Response and Behavioral Research on Mine Escape. The agenda will also include an update report from the Associate Director for Mining.

Agenda items are subject to change as priorities dictate.

Contact Person for More Information: Jeffery L. Kohler, PhD, Executive Secretary, MSHRAC, NIOSH, CDC, 626 Cochrans Mill Road, telephone (412) 386-5301, fax (412) 386-5300.

The Director, Management Analysis and Services Office, has been delegated the authority to sign Federal Register notices pertaining to announcements of meetings and other committee management activities for both the Centers for Disease Control and Prevention and the Agency for Toxic Substances and Disease Registry.

Dated: March 26, 2007.
Elaine L. Baker,
Acting Director, Management Analysis and Services Office, Centers for Disease Control and Prevention (CDC).

[FR Doc. E7-6008 Filed 3-30-07; 8:45 am]

BILLING CODE 4163-18-P